DEPARTMENT OF COMMERCE

National Oceanic and Atmospheric Administration

[RTID 0648-XF393]

Gulf Fishery Management Council; Public Meetings

AGENCY: National Marine Fisheries Service (NMFS), National Oceanic and Atmospheric Administration (NOAA), Commerce.

ACTION: Notice; public hearings and webinars.

SUMMARY: The Gulf Fishery Management Council (Gulf Council) will hold three in-person public hearings and one webinar to solicit public comments on Shallow-water Grouper.

DATES: The public hearings will take place January 8-21, 2026. The in-person public hearings and webinar will begin at 6 p.m. and will conclude no later than 8 p.m. local time. For specific dates and times, see SUPPLEMENTARY INFORMATION. Written public comments must be received on or before 5 p.m. EST on January 20, 2026.

ADDRESSES: Please visit the Gulf Council website at www.gulfcouncil.org for meeting materials and webinar registration information.

Meeting addresses: The public hearings will be held in Madeira Beach, Galveston, TX and Lafayette, LA; and one virtual webinar. For specific locations, dates and times see SUPPLEMENTARY INFORMATION below.

Council address: Gulf Fishery Management Council, 4107 W Spruce Street, Suite 200, Tampa, FL 33607; telephone: (813) 348-1630.

FOR FURTHER INFORMATION CONTACT: Emily Muehlstein; Public Information Officer; emily.muehlstein@gulfcouncil.org, Gulf Fishery Management Council; telephone: (813) 348-1630.

SUPPLEMENTARY INFORMATION: The agenda for the following three in-person public hearings and webinar is as follows: Council staff will begin with a presentation on the purpose, need, and proposed management alternatives in Shallow-water Grouper Amendment 58A.

Staff and a Council member will be available to answer any questions, and the public will have the opportunity to provide testimony on the amendment and other related testimony.

In-Person Locations and Webinars

Thursday, January 8, 2026; Maderia Beach City Hall, 300 Municipal Drive, Madeira Beach, FL 33708, (727) 391-9951.

Monday, January 12, 2026; Hilton Galveston Island, 5400 Seawall Boulevard, Galveston, TX 77551, (409) 744-5000.

Tuesday, January 13, 2026; Louisiana Department of Wildlife and Fisheries (LDWF) Lafayette Office Large Conference Room #2039, 200 Dulles Drive, Lafayette, LA 70508.

Wednesday, January 21, 2026; via webinar.

Visit www.gulfcouncil.org website and click on the “meetings and public hearings” tab for registration information. After registering, you will receive a confirmation email containing information about joining the webinar.

Special Accommodations

These meetings are physically accessible to people with disabilities. Requests for sign language interpretation or other auxiliary aids should be directed to Kathy Pereira (see ADDRESSES), at least 10 working days prior to the meeting date.

Authority: 16 U.S.C. 1801 et seq.

Dated: December 19, 2025.
Anna Michelle Harrison,
Acting Deputy Director, Office of Sustainable Fisheries, National Marine Fisheries Service.

[FR Doc. 2025-23779 Filed 12-23-25; 8:45 am]

BILLING CODE 3510-22-P